DEPARTMENT OF STATE

[Public Notice 11302]

Review and Amendment of the Designation of Lashkar i Jhangvi (and Other Aliases) as a Foreign Terrorist Organization

Based upon a review of the Administrative Record assembled pursuant to Section 219(a)(4)(C) of the Immigration and Nationality Act, as amended (8 U.S.C. 1189(a)(4)(C)) (“INA”), and in consultation with the Attorney General and the Secretary of the Treasury, I conclude that the circumstances that were the basis for the designation of the aforementioned organization (and other aliases) as a Foreign Terrorist Organization have not changed in such a manner as to warrant revocation of the designation and that the national security of the United States does not warrant a revocation of the designation. I also conclude that there is a sufficient factual basis to find that the following are additional aliases of the aforementioned organization (and other aliases): Lashkar e Jhangvi al-Alami, also known as Lashkar e Jhangvi al-Almi, also known as LeJ al-Alami.

Therefore, I hereby determine that the designation of the aforementioned organization (and other aliases) as a Foreign Terrorist Organization, pursuant to Section 219 of the INA, as amended (8 U.S.C. 1189), shall be maintained. Additionally, pursuant to Section 219(b) of the INA, as amended (8 U.S.C. 1189(b)), I hereby amend the designation of the aforementioned organization (and other aliases) as a Foreign Terrorist Organization to include the following new aliases: Lashkar e Jhangvi al-Alami, also known as Lashkar e Jhangvi al-Almi, also known as LeJ al-Alami.

This determination shall be published in the Federal Register.

Dated: December 22, 2020.
Michael R. Pompeo,
Secretary of State.

[FR Doc. 2021-00601 Filed 1-13-21; 8:45 am]

BILLING CODE 4710-AD-P